DEPARTMENT OF JUSTICE

Antitrust Division

Notice Pursuant to the National Cooperative Research and Production Act of 1993—Open DeviceNet Vendor Association, Inc.

Notice is hereby given that, on January 29, 2007, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Mettler-Toledo, Inc., Columbus, OH; Ground Fault Systems bv, Enschede, THE NETHERLANDS; Shanghai Sibotech Automation Co., Ltd., Shanghai, PEOPLE'S REPUBLIC OF CHINA; UNIPULSE Corporation, Koshigaya City, Saitama, JAPAN; Software Horizons Inc., North Billerica, MA; Souriau USA, Inc., York, PA; Kashiyama Industries, Ltd., Nagano, JAPAN; Spectrum Controls, Inc., Issaquah, WA; AC&T Systems, Kyunggi-do, REPUBLIC OF KOREA; Korenix Technology Co., Ltd., Taipei, TAIWAN; Chun IL Electric Ind. Co., Busan, REPUBLIC OF KOREA; Shinho System, Seoul, REPUBLIC OF KOREA; INNOBIS, Cheonan-si, Chungcheongnam-do, REPUBLIC OF KOREA; Northern Network Solutions LLC, Auburn Hills, MI; Ten X Technology, Inc., Austin, TX; KVC Co. Ltd., Gyeonggi-do, REPUBLIC OF KOREA; Symbol Technologies, Inc., Holtsville, NY; Advantech Automation Corporation, Cincinatti, OH; BTR NETCOM, a division of RIA Connect, Inc., Tinton Falls, NJ; and Bernecker+Rainer Industrie Electronik Ges. m.b.H, Eggelsberg, AUSTRIA have been added as parties to this venture.

Also, Radic Technology, Milpitas, CA; Leybold Vakuum GmbH, Cologne, GERMANY; Sharp Manufacturing Systems Corporation, Osaka, JAPAN; Brooks Automation, Chelmsford, MA; HM Computing, Malvern, Worcestershire, UNITED KINGDOM; ISAS (Integrated Switchgear & Systems P/L), Darwin, N.T., AUSTRALIA; Keyence Corporation, Osaka, JAPAN; and Mykrolis Corporation (Millipore) (Entegris), Allen, TX have withdrawn as parties to this venture.

In addition, Belden CDT has changed its name to Belden, Richmond, IN; Enercorn-Nord Electronic GmbH has changed its name to Nord Electronic DRIVESYSTEMS GmbH, Hamburg, GERMANY; Rockwell Samsung Automation has changed its name to Rockwell Automation Korea, Suwon Kyunggi-do, REPUBLIC OF KOREA; CELERITY (Kinetics/Unit Instruments) has changed its name to Celerity, Inc., Yorba Linda, CA.

No other changes have been made in either the membership or planned activity of the group research project. Membership in this group research project remains open, ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on May 31, 2006. A notice was published in the Federal Register pursuant to Section 6(b) of the Act on June 15, 2006 (71 FR 34645).

Patricia A. Brink,
Deputy Director of Operations, Antitrust Division.

[FR Doc. 07-1199 Filed 3-14-07; 8:45 am]

BILLING CODE 4410-11-M